FEDERAL ELECTION COMMISSION

11 CFR Part 1

[Notice 2018-04]

Change of Address; Technical Amendment

AGENCY: Federal Election Commission.

ACTION: Final rule; technical amendment.

SUMMARY: The relocation of the Federal Election Commission (“FEC” or “Commission”) to a new building with a different street address has been delayed by two weeks. The Commission is updating its regulations to reflect the new relocation date.

DATES: This rule is effective March 9, 2018.

FOR FURTHER INFORMATION CONTACT: Mr. Tony Buckley, Attorney, or Mr. Eugene Lynch, Paralegal, (202) 694-1650 or (800) 424-9530.

SUPPLEMENTARY INFORMATION: On December 26, 2017, the Federal Election Commission published a Final Rule (82 FR 60852) announcing its official relocation in 2018 to a new street address, and amending its regulations to reflect the change in location. The Final Rule stated that the Commission would relocate on March 5, 2018 to its new street address: 1050 First Street NE, Washington, DC 20463. The Commission's relocation has since been delayed, however, and the Commission will now relocate to its new street address on March 19, 2018. Until March 19, 2018, the Commission will continue to reside and receive mail at 999 E Street NW, Washington, DC 20463.

The Commission is promulgating these amendments without advance notice or an opportunity for comment because they fall under the “good cause” exemption of the Administrative Procedure Act. 5 U.S.C. 553(b)(B). The Commission finds that notice and comment are unnecessary here because these amendments are merely technical; they effect no substantive changes to any rule. For the same reason, these amendments fall within the “good cause” exception to the delayed effective date provisions of the Administrative Procedure Act and the Congressional Review Act. 5 U.S.C. 553(d)(3), 808(2). Moreover, because these amendments are exempt from the notice and comment procedure of the Administrative Procedure Act under 5 U.S.C. 553(b), the Commission is not required to conduct a regulatory flexibility analysis under 5 U.S.C. 603 or 604. See 5 U.S.C. 601(2), 604(a). Nor is the Commission required to submit these amendments for congressional review under the Federal Election Campaign Act of 1971, as amended, the Presidential Election Campaign Fund Act, as amended, or the Presidential Primary Matching Payment Account Act, as amended. See 52 U.S.C. 30111(d)(1), (4) (providing for congressional review when Commission “prescribe[s]” a “rule of law”); 26 U.S.C. 9009(c)(1), (4), 9039(c)(1), (4) (same).

List of Subjects in 11 CFR Part 1

Privacy.

For the reasons set out in the preamble, the Federal Election Commission amends 11 CFR chapter I as follows:

PART 1—PRIVACY ACT

1. The authority citation for part 1 continues to read as follows:

Authority: U.S.C. 552a.

§ 1.2 [Amended]

2. Amend § 1.2 in the definition for “Commission” by removing “March 5, 2018” and adding in its place “March 19, 2018”.

On behalf of the Commission.
Dated: March 1, 2018.
Caroline C. Hunter,
Chair, Federal Election Commission.

[FR Doc. 2018-04698 Filed 3-8-18; 8:45 am]

BILLING CODE 6715-01-P